DEPARTMENT OF JUSTICE

Antitrust Division

Notice Pursuant to the National Cooperative Research and Production Act of 1993—Maritime Sustainment Technology and Innovation Consortium

Notice is hereby given that, on April 8, 2022, pursuant to Section 6(a) of the National Cooperative Research and Production Act of 1993, 15 U.S.C. 4301 et seq. (“the Act”), Maritime Sustainment Technology and Innovation Consortium (“MSTIC”) has filed written notifications simultaneously with the Attorney General and the Federal Trade Commission disclosing changes in its membership. The notifications were filed for the purpose of extending the Act's provisions limiting the recovery of antitrust plaintiffs to actual damages under specified circumstances. Specifically, Grove Resource Solutions, Inc., Bethesda, MD; Antech Systems, Inc., Chesapeake, VA; Peerless Technologies Corporation, Fairborn, OH; Wartsila Defense, Inc., Chesapeake, VA; Dynamic Structures & Materials LLC, Franklin, TN; Magothy River Technologies, Herndon, VA; Bracari, Mount Pleasant, SC; Bloomy Controls, Inc., South Windsor, CT; Astro Machine & Tool Works LLC, Tyler, TX; C3.ai, Redwood City, CA; Kord Technologies, Huntsville, AL; Greystones Consulting Group LLC, Washington, DC; Mantel Technologies, Tacoma, WA; Engineering & Consulting Center of Excellence, LLC, Hollis, NH; Accenture Federal Services LLC, Arlington, VA; Akita Innovations LLC, North Billerica, MA; Nalas Engineering Services, Inc., Centerbrook, CT; Trident Systems Incorporated, Fairfax, VA; Synthio Chemicals, Inc., Broomfield, CO; Crestwood Technology Group Corp., Yonkers, NY; Tri-Tec Manufacturing LLC, Kent, WA; Grahene Composites USA, Inc., Providence, RI; Martin Defense Group, LLC, Honolulu, HI; MPR Associates, Inc., Alexandria, VA; Tetramer Technologies LLC, Pendleton, SC; Mussel Polymers, Inc., Bethlehem, PA; Canfield Consulting Group LLC d/b/a Canfield CyberDefense Group, Olney, MD; and A-Tech, LLC, Albuquerque, NM, have been added as parties to this venture.

Also, BMT Designers & Planners, Houston, TX, has withdrawn as a party to this venture.

Lastly, Florida State University Center for Advanced Power Systems, a party to this venture as listed on previous reporting, has changed names to Florida State University, Sponsored Research Administrations.

No other changes have been made in either the membership or planned activity of the group research project. Membership in this group research project remains open, and MSTIC intends to file additional written notifications disclosing all changes in membership.

On October 21, 2020, MSTIC filed its original notification pursuant to Section 6(a) of the Act. The Department of Justice published a notice in the Federal Register pursuant to Section 6(b) of the Act on November 19, 2020 (85 FR 73750).

The last notification was filed with the Department on January 19, 2022. A notice was published in the Federal Register pursuant to Section 6(b) of the Act on March 10, 2022 (87 FR 13758).

Suzanne Morris,
Chief, Premerger and Division Statistics, Antitrust Division.

[FR Doc. 2022-10218 Filed 5-11-22; 8:45 am]

BILLING CODE P